CIVIL RIGHTS COMMISSION

Sunshine Act Meeting Notice

AGENCY: United States Commission on Civil Rights.

ACTION: Notice of Commission public business meeting.

DATES: Friday, October 18, 2019, 10:00 a.m. EDT.

ADDRESSES: Meeting to take place by telephone.

FOR FURTHER INFORMATION CONTACT: Brian Walch: (202) 376-8371; TTY: (202) 376-8116; publicaffairs@usccr.gov.

SUPPLEMENTARY INFORMATION: This business meeting is open to the public by telephone only. Dial-in: 800-635-7637, Conference ID 610-6266. Persons with disabilities who need accommodation should contact Pamela Dunston at (202) 376-8105 or at access@usccr.gov at least seven business days before the scheduled date of the meeting.

Agenda

I. Approval of Agenda

II. Business Meeting

A. Presentation by Maine Advisory Committee member on the Committee's recent report, The Criminalization of People with Mental Illnesses in Maine

B. Presentation by Georgia Advisory Committee member on the Committee's recent report, Disability Rights and Civil Rights in Georgia

C. Presentation by Nevada Advisory Committee member on the Committee's recent report, Mental Health Implications for Policing Practices and the Administration of Justice in Nevada

D. Discussion and vote on Commission Advisory Committee appointments

• Maryland

• West Virginia

E. Discussion and Vote on Commission's report, Sexual Harassment and Free Speech on Campus

F. Management and Operations

• Staff Director's Report

III. Adjourn Meeting

Dated: October 9, 2019.
Brian Walch,
Director, Communications and Public Engagement.

[FR Doc. 2019-22405 Filed 10-9-19; 11:15 am]

BILLING CODE 6335-01-P